DEPARTMENT OF TRANSPORTATION

Surface Transportation Board

[STB Finance Docket No. 35364]

R.J. Corman Railroad Company/Bardstown Line—Lease and Operation Exemption—R.J. Corman Railroad Property, LLC

R.J. Corman Railroad Company/Bardstown Line (RJC Railroad Company), a Class III rail carrier, has filed a verified notice of exemption under 49 CFR 1150.41 to lease from R.J. Corman Railroad Property, LLC (RJC Railroad Property), and to operate approximately 42 route miles of RJC Railroad Property's rail line extending from milepost 0.144 at or near Oneida to milepost 42.0 at or near Devonia, in Scott, Campbell, and Anderson Counties, TN.

This transaction is related to the concurrently filed notice of exemption in STB Finance Docket No. 35363, R.J. Corman Railroad Property, LLC—Acquisition Exemption—NC Railroad, Inc., wherein RJC Railroad Property seeks to acquire by purchase from NC Railroad, Inc., the 42 route miles of rail line described above.

Based on projected revenues for the line, RJC Railroad Company expects to remain a Class III rail carrier after consummation of the proposed transaction. RJC Railroad Company certifies that its projected revenues as a result of this transaction will not result in the creation of a Class II or Class I rail carrier. In addition, RJC Railroad Company provides that its projected annual revenues will not exceed $5 million.

RJC Railroad Company states that it intends to consummate the transaction on or before April 26, 2010, and will commence operations on behalf of RJC Railroad Property on or about the same day. The earliest this transaction may be consummated is April 25, 2010, the effective date of the exemption (30 days after the exemption was filed).

If the verified notice contains false or misleading information, the exemption is void ab initio. Petitions to revoke the exemption under 49 U.S.C. 10502(d) may be filed at any time. The filing of a petition to revoke will not automatically stay the transaction. Petitions for stay must be filed no later than April 16, 2010 (at least 7 days before the exemption becomes effective).

An original and 10 copies of all pleadings, referring to STB Finance Docket No. 35364, must be filed with the Surface Transportation Board, 395 E Street, SW., Washington, DC 20423-0001. In addition, a copy of each pleading must be served on David R. Irvin and Elizabeth E. Darby, Moynahan, Irvin, Mooney & Stansbury, PSC, 110 North Main Street, Nicholasville, KY 40356.

Board decisions and notices are available on our Web site at http://www.stb.dot. gov.

Decided: April 2, 2010.
By the Board, Rachel D. Campbell, Director, Office of Proceedings.
Kulunie L. Cannon,
Clearance Clerk.

[FR Doc. 2010-7954 Filed 4-8-10; 8:45 am]

BILLING CODE 4915-01-P